DEPARTMENT OF COMMERCE

International Trade Administration

[A-588-806]

Electrolytic Manganese Dioxide From Japan: Final Results of Antidumping Duty Administrative Review

AGENCY: Import Administration, International Trade Administration, Department of Commerce.

ACTION: Notice of Final Results of Antidumping Duty Administrative Review.

SUMMARY: On May 8, 2000, the Department of Commerce published the preliminary results of administrative review of the antidumping duty order on electrolytic manganese dioxide from Japan. The review covers one producer/exporter, Tosoh Corporation, during the period of review April 1, 1998, through March 31, 1999.

We gave interested parties an opportunity to comment on the preliminary results. Based on our analysis of the comments received, we made no changes for the final results. The review indicates the existence of no dumping margins for Tosoh Corporations during this period.

DATE: September 15, 2000.

FOR FURTHER INFORMATION CONTACT: Hermes Pinilla, Karin Ryerson, or Richard Rimlinger, Office of AD/CVD Enforcement 3, Import Administration, International Trade Administration, U.S. Department of Commerce, Washington, DC 20230; telephone: (202) 482-3477, (202) 482-3174 or (202) 482-4477; respectively.

SUPPLEMENTARY INFORMATION:

The Applicable Statute and Regulations

Unless otherwise indicated, all citations to the Tariff Act of 1930, as amended (the Act) are references to the provisions effective January 1, 1995, the effective date of the amendments made to the Act, by the Uruguay Round Agreement Act (URAA). In addition, unless otherwise indicated, all citations to the Department of Commerce's (the Departments) regulations are to 19 CFR Part 351 (1999).

Background

On May 8, 2000, the Department published in the Federal Register the preliminary results of the administrative review of the anitidumping duty order on electrolytic manganese dioxide (EMD) from Japan. See Preliminary Results of Antidumping Duty Administrative Review: Electrolytic Manganese Dioxide from Japan, 65 FR 265780 (Preliminary Results). Kerr-McGee Chemical LLC and Chemetals, Inc. (collectively “the petitioners”), submitted their case briefs on June 7, 2000. Tosoh Corporation (Tosoh), the sole respondent in this review, submitted its case brief on June 7, 2000. Both the petitioners and Tosoh submitted their rebuttal on June 12, 2000. The Department has conducted this administrative review in accordance with section 751 of the Act.

Scope of Review

Imports covered by this review are shipments of EMD from Japan. EMD is manganese dioxide (MnO2) that has been refined in an electrolysis process. The subject merchandise is an intermediate product used in the production of dry-cell batteries. EMD is sold in three physical forms, powder, chip or plate, and two grades, alkaline and zinc chloride. EMD is all three forms and both grades is included in the scope of the order. This merchandise is currently classifiable under item number 2820.10.0000 of the Harmonized Tariff Schedule of the United States (HTSUS). The HTSUS number is provided for convenience and customs purposes. It is not determinative of the products subject to the order. The written product description remains dispositive.

Analysis of Comments Received

All issues raised in the case and rebuttal briefs by the petitioners and Tosoh are addressed in the “Issues and Decision Memorandum” (Decision Memo) from Richard W. Moreland, Deputy Assistant Secretary to Troy H. Cribb, Acting Secretary, dated September 5, 2000, which is hereby adopted by this notice. A list of issues which parties have raised and to which we have responded, all of which are in the Decision Memo, is attached to this notice as an appendix. This Decision Memo, which is a public document, is on the file in the Central Records Unit, Main Commerce Building, Room B-099, and is accessible on the Web at www.ia.ita.doc.gov. The paper copy and electronic version of the Decision Memo are identical in content.

Sunset Revocation

On April 20, 2000, the International Trade Commission (ITC), pursurant to section 751(c) of the Act, determined that revocation of the antidumping duty order on EMD from Japan would not be likely to lead to continuation of recurrence of material injury within a reasonably foreseeable time. Therefore, because the order will be revoked as a result of the ITC's determination with an effective date of January 1, 2000, no deposit requirements will be effective for shipments entered, or withdrawn from warehouse, for consumption on or after the publication date of the final results of this administrative review

Final Results of Review

Based on our analysis of the comments received, we made no changes for the final results. Therefore, the final results of review are the same as those we presented in our preliminary results. We have determined that a weighted-average margin of zero percent exists for Tosoh for the period April 1, 1998, through March 31, 1999.

The Department will issue appraisement instruction directly to the Customs Service.

This notice also serves as a reminder to parties subject to administrative protective order (APO) of their responsibility concerning the disposition of proprietary information disclosed under APO in accordance with 19 CFR 351.305. Timely notification of return/destruction of APO materials or conversion to judicial protective order is hereby requested. Failure to comply with the regulations and the terms of an APO is a sanctionable violation.

We are issuing and publishing this determination in accordance with sections 751(A)(1) and 777(i)(l) of the Act.

Dated: September 5, 2000.
Troy H. Cribb,
Acting Assistant Secretary for Import Administration.

Comments and Responses

1. Determination of U.S. Price

2. Affiliation

3. Matching Methodology

[FR Doc. 00-23797 Filed 9-14-00; 8:45 am]

BILLING CODE 3510-DS-P